SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions to and extensions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, DCRDP, Attn: Reports Clearance Director, 107 Altmeyer Building, 6401 Security Blvd., Baltimore, MD 21235, Fax: 410-966-2830, Email address: OR.Reports.Clearance@ssa.gov.

I. The information collections below are pending at SSA. SSA will submit them to OMB within 60 days from the date of this notice. To be sure we consider your comments, we must receive them no later than February 26, 2013. Individuals can obtain copies of the collection instruments by writing to the above email address.

1. Information About Joint Checking/Savings Accounts—20 CFR 416.120, 416.1208—0960-0461. SSA considers a person's resources when evaluating eligibility for Supplemental Security Income (SSI). Generally, we consider funds in checking and savings accounts as resources owned by the individuals whose names appear on the account. However, individuals applying for SSI may rebut this assumption of ownership in a joint account by submitting certain evidence to establish the funds do not belong to them. SSA uses Form SSA-2574 to collect information from SSI applicants and recipients who object to the assumption that they own all or part of the funds in a joint checking or savings account bearing their names. SSA collects information about the account from both the SSI applicant or recipient and the other account holder(s). After receiving the completed form, SSA determines if we should consider the account as a resource for the SSI applicant or recipient. The respondents are applicants and recipients of SSI, and individuals who list themselves as joint owners of financial accounts with SSI applicants or recipients.

Type of Request: Revision of an OMB-approved information collection.

Modality of completion | Number of respondents | Frequency of response | Average burden per response (minutes) | Estimated total annual burden (hours)
SSA-2574 Paper form | 50,000 | 1 | 7 | 5,833
Modernized SSI Claims System | 150,000 | 1 | 7 | 17,500
Totals | 200,000 |  |  | 23,333

2. Real Property Current Market Value Estimate—0960-0471. SSA considers an individual's resources when evaluating eligibility for SSI. The value of an individual's resources, including non-home real property, is one of the eligibility considerations for SSI. As part of initial applications and in post-entitlement situations, SSA uses Form SSA-L2794 to obtain current market value estimates of the claimant's real property from individuals knowledgeable about real estate values. We allow respondents to use readily available records to complete the form, or we can accept their best estimates. The respondents are small business operators in real estate, State and local government employees tasked with assessing real property values, and other individuals knowledgeable about local real estate values.

Type of Request: Revision of an OMB-approved information collection.

Modality of completion | Number of respondents | Frequency of response | Average burden per response (minutes) | Estimated total annual burden (hours)
SSA-L2794 | 5,438 | 1 | 20 | 1,813

3. SSI Monthly Wage Reporting (Telephone and Mobile)—20 CFR 416.701-732—0960-0715. SSA requires SSI recipients to report changes which could affect their eligibility for, and the amount of, their SSI payments, such as changes in income, resources, and living arrangements. SSA's SSI Telephone Wage Reporting (SSITWR) and SSI Mobile Wage Reporting (SSIMWR) enable SSI recipients to meet these requirements through an automated mechanism to report their monthly wages by telephone and mobile application, instead of contacting their local field offices. The SSITWR allows callers to report their wages by speaking their responses through voice recognition technology, or by keying in responses using a telephone key pad. The SSIMWR allows recipients to report their wages through the mobile wage reporting application on their smartphone. SSITWR and SSIMWR systems collect the same information and send it to SSA over secure channels. To ensure the security of the information provided, SSITWR and SSIMWR ask respondents to provide information SSA can compare against our records for authentication purposes. Once the system authenticates the identity of the respondents, they can report their wage data. The respondents are SSI recipients, deemors, or their representative payees.

Type of Request: Extension of an OMB-approved information collection.

Modality of completion | Number of respondents | Frequency of response | (Number of responses) | Average burden per response (minutes) | Estimated total annual burden (hours)
Training/Instruction* | 85,000 | 1 | (85,000) | 35 | 49,583
SSITWR | 80,000 | 12 | (960,000) | 5 | 80,000
SSIMWR | 5,000 | 12 | (60,000) | 3 | 3,000
Total | 85,000 |  | (1,105,000) |  | 132,583
Note: The same 85,000 respondents are completing training and a modality of collection, therefore the actual total number of respondents is still 85,000.

4. Centenarian Project Development Worksheets: Face-to-Face Interview and Telephone Interview—20 CFR 416.204(b) and 422.135—0960-0780. SSA conducts interviews with title II beneficiaries and title XVI recipients age 100 and older to: (1) Assess if the beneficiaries are still living; (2) prevent fraud, through either identity misrepresentation or representative payee misuse of funds; and (3) evaluate the well-being of the beneficiaries. SSA field office personnel obtain the information through one-time interviews with the centenarians. If the centenarians have representatives or caregivers, SSA personnel invite them to the interviews. During the interview, SSA employees make overall observations of the centenarian and their representative payee (if applicable). The interviewer uses the appropriate Centenarian Development Worksheet as a guide for the interview, in addition to documenting findings during the interview. Non-completion of the Worksheets, or refusal of the interview, does not result in the suspension of the centenarian's payments. SSA conducts each interview either over the telephone or through a face-to-face discussion with the centenarian. This is a national project for our title II beneficiaries and title XVI recipients. Respondents are SSI recipients or Social Security beneficiaries 100 years old or older, their representative payees, or their caregivers.

Type of Request: Revision of an OMB-approved information collection.

Modality of completion | Number of respondents | Frequency of response | Average burden per response (minutes) | Estimated total annual burden (hours)
Centenarian Worksheets: Face-to-Face Interview; Telephone Interview | 22,000 | 1 | 15 | 5,500

II. SSA submitted the information collections below to OMB for clearance. Your comments regarding the information collections would be most useful if OMB and SSA receive them 30 days from the date of this publication. To be sure we consider your comments, we must receive them no later than January 28, 2013. Individuals can obtain copies of the OMB clearance packages by writing to OR.Reports.Clearance@ssa.gov.

1. Farm Self-Employment Questionnaire—20 CFR 404.1082(c) & 404.1095—0960-0061. SSA requires the existence of a trade or business before determining if an individual or partnership may have net earnings from self-employment. When a claimant indicates self-employment as a farmer, SSA obtains the information we need to determine the existence of an agricultural trade or business and subsequent covered earnings for Social Security entitlement purposes using Form SSA-7165, Farm Self-Employment Questionnaire. As part of the application process, we conduct a personal interview, either face-to-face or via telephone, and document the interview using Form SSA-7165. The respondents are applicants for Social Security benefits, whose entitlement depends on workers having covered earnings from self-employment as farmers.

Type of Request: Revision of an OMB-approved information collection.

Modality of completion | Number of respondents | Frequency of response | Average burden per response (minutes) | Estimated total annual burden (hours)
SSA-7156 | 47,500 | 1 | 10 | 7,917

2. Response to Notice of Revised Determination—20 CFR 404.913-.914, 404.992(b), 416.1413-.1414 and 416.1492(d)-0960-0347. When SSA determines (1) claimants for initial disability benefits do not actually have a disability or (2) current disability recipients' records show their disability ceased, SSA must notify the disability claimants or recipients of this decision. In response to this notice, the affected claimants and disability recipients have the following recourse: (1) They may request a disability hearing to contest SSA's decision and (2) they may submit additional information or evidence for SSA to consider. Disability claimants, recipients, and their representatives use Form SSA-765 to accomplish these two actions. The respondents are disability claimants, current disability recipients, or their representatives.

Type of Request: Revision of an OMB-approved information collection.

Modality of completion | Number of respondents | Frequency of response | Average burden per response (minutes) | Estimated total annual burden (hours)
SSA-765 | 1,925 | 1 | 30 | 963

3. Representative Payment Policies and Administrative Procedures for Imposing Penalties for False or Misleading Statements or Withholding of Information—0960-0740. This information collection comprises several regulation sections that provide additional safeguards for Social Security beneficiaries whose representative payees receive their payments. SSA requires representative payees to notify us of any event or change in circumstances that would affect receipt of benefits or performance of payee duties. SSA uses the information to determine continued eligibility for benefits, the amount of benefits due, and if the payee is suitable to continue serving as payee. The respondents are representative payees who receive and use benefits on behalf of Social Security beneficiaries.

Type of Request: Extension of an OMB-approved information collection.

Regulation section | Number of respondents | Frequency of response | Average burden per response (minutes) | Estimated total annual burden (hours)
404.2035(d)—Paper/Mail | 27,500 | 1 | 5 | 2,292
404.2035(d)—Office interview/Intranet | 522,500 | 1 | 5 | 43,542
404.2035(f)—Paper/Mail | 275 | 1 | 5 | 23
404.2035(f)—Office interview/Intranet | 5,225 | 1 | 5 | 435
416.635(d)—Paper/Mail | 15,000 | 1 | 5 | 1,250
416.635(d)—Office interview/Intranet | 285,000 | 1 | 5 | 23,750
416.635(f)—Paper/Mail | 150 | 1 | 5 | 13
416.635(f)-Office interview/Intranet | 2,850 | 1 | 5 | 238
Totals | 858,500 |  |  | 71,543

4. Request for Reinstatement (Title II)—20 CFR 404.1592b—404.1592f-0960-0742. SSA allows certain previously entitled disability beneficiaries to request expedited reinstatement (EXR) of benefits under title II of the Social Security Act (Act) when their medical condition no longer permits them to perform substantial gainful activity. SSA uses Form SSA-371 to obtain (1) a signed statement from individuals requesting an EXR of their title II disability benefits, and (2) proof the requestors meet the EXR requirements. SSA maintains the form in the disability folder of the applicant to demonstrate the requestors' awareness of the EXR requirements, and their choice to request EXR. Respondents are applicants for EXR of title II disability benefits.

Type of Request: Revision of an OMB-approved information collection.

Modality of completion | Number of respondents | Frequency of response | Average burden per response (minutes) | Estimated total annual burden (hours)
SSA-371 | 10,000 | 1 | 2 | 333

5. Request for Reinstatement (Title XVI)—20 CFR 416.999-416.999d-0960-0744. SSA allows certain previously entitled disability recipients to request EXR of benefits under title XVI of the Act when their medical condition no longer permits them to perform substantial gainful activity. SSA uses Form SSA-372 to (1) inform previously entitled recipients of the EXR requirements of SSI payments under title XVI of the Act, and (2) document their requests for EXR. We require this application for reinstatement of benefits for respondents to obtain SSI disability payments for EXR. When an SSA claims representative learns of individuals whose medical conditions no longer permit them to perform substantial gainful activity as defined in the Act, the claims representative gives or mails the form to the previously entitled individuals if they request EXR over the phone. SSA employees collect this information whenever an individual files for EXR benefits. The respondents are applicants for EXR of SSI disability payments.

Type of Request: Revision of an OMB approved information collection.

Modality of completion | Number of respondents | Frequency of response | Average burden per response (minutes) | Estimated total annual burden (hours)
SSA-372 | 2,000 | 1 | 2 | 67

6. Protecting the Public and Our Personnel To Ensure Operational Effectiveness (RIN 0960-AH35), Regulation 3729I—20 CFR 422.905, 422.906-0960-0796.

Background

When members of the public demonstrate disruptive, violent, or threatening actions or behavior toward SSA employees, the agency takes measures to ensure the safety of everyone involved, including banning such individuals from appearing in person at any of our field offices. In lieu of in-person office visits, the agency provides services to banned individuals through alternate methods, including our 800 number, online applications, mail services, or, in limited circumstances, face-to-face services by appointment with additional security present.

On September 2, 2011, the agency published regulations and notifications processes for the ban decision at 76 FR 54700. We are currently requesting full approval for the public reporting burdens from the interim final rules. We previously obtained emergency OMB approval for these burdens.

Information Collection Description

The interim final ban decision rules contain two public reporting burdens:

• 20 CFR 422.905—after SSA issues a ban decision against an individual, the individual has 60 days to appeal the determination. Individuals must submit a written appeal stating why they believe SSA should rescind the ban and allow them to conduct business with us on a face-to-face basis in one of our offices. There is no printed form for this request; banned individuals create their own written statement of appeal, and submit it to a sole decision-maker in the regional office of the region where the ban originated. The individuals may also provide additional documentation to support their appeal.

• 20 CFR 422.906—three years after the original ban decision, banned individuals may re-submit a written appeal of the determination. The same criteria apply as for the original appeal: (1) It must be in writing; (2) it must go to a sole decision-maker in the regional office of the region where the ban originated for review; and (3) it may accompany supporting documentation.

Respondents for this collection are individuals appealing their banning from SSA field offices.

Type of Request: Extension of an OMB-approved information collection.

Regulation section | Number of respondents | Frequency of response | Average burden per response (minutes) | Estimated total annual burden (hours)
20 CFR 422.905 | 75 | 1 | 15 | 19
20 CFR 422.906 | 75 | 1 | 20 | 25
Totals | 150 |  |  | 44

Dated: December 21, 2012.
Paul Kryglik,
Director Office of Regulations & Report, Clearance Social Security Administration.

[FR Doc. 2012-31161 Filed 12-27-12; 8:45 am]

BILLING CODE 4191-02-P